DEPARTMENT OF ENERGY

Federal Energy Regulatory Commission

Notice of Application Accepted for Filinf and Soliciting Motions To Intervene and Protests

March 18, 2002.

a. Type of Application: New Major License.

b. Project No.: P-401-027.

c. Date Filed: September 14, 2001.

d. Applicant: Indiana Michigan Power Company.

e. Name of Project: Mottville Hydroelectric Project.

f. Location: On the St. Joseph River, in Mottville Township, St. Joseph County, Michigan. The project does not affect federal lands.

g. Filed Pursuant to: Federal Power Act 16 U.S.C. 791(a)-825(r).

h. Applicant Contact: J.F. Norris, Jr., American Electric Power Service Corporation, 1 Riverside Plaza, Columbus, OH 43215, (614) 223-1700, or jfnorris@aep.com.

i. FERC Contact: Lee Emery (202) 219-2779 or lee.emery@FERC.gov.

j. Deadline for filing motions to intervene and protest: 60 days from the issuance date of this notice.

All documents (original and eight copies) should be filed with: Magalie Roman Salas, Secretary, Federal Energy Regulatory Commission, 888 First Street, NE, Washington, DC 20426.

The Commission's Rules of Practice require all interveners filing documents with the Commission to serve a copy of that document on each person on the official service list for the project. Further, if an intervener files comments or documents with the Commission relating to the merits of an issue that may affect the responsibilities of a particular resource agency, they must also serve a copy of the document on that resource agency.

Comments, motions to intervene and protests may be filed electronically via the Internet in lieu of paper. See 18 CFR 385.2001(a)(1)(iii) and the instructions on the Commission's Web site, http://www.ferc.gov, under the “e-Filing” link.

k. Status of environmental analysis: This application is not ready for environmental analysis at this time.

l. Description of Project: The existing Mottville Project consists of: (1) Two 17-foot high earth-filled embankments extending towards the center of the river from both riverbanks, including (i) a west embankment that is 140 feet long and has a crest width of 15 feet and extends to the powerhouse, and (ii) an east embankment that is 365 feet long and has a crest width of 8 feet and extends from the east riverbank to the spillway; (2) a 237-foot long, reinforced concrete spillway with 10 steel Taintor gates along the crest of the spillway, which are separated by 2.5-foot-wide piers between Bays 1 and 2, and 3 and 4 and 1.5-foot-wide piers between the remaining Bays with the Taintor gates being 22-feet-wide and 13-feet-high in Bays 1 and 2 and 22-feet-wide and 7.5-feet-high in Bays 3 through 10; (3) a combined powerhouse-intake structure, made of brick and concrete, that is 118 feet long, 28 feet wide, and 25 feet long; (4) 4 vertical shaft, single runner, propeller type generating units with an installed generating capacity of 420 kW each; (5) a 14.5-foot-long, 28-foot-wide, and 25-foot-long switchboard bay attached to the west end of the powerhouse; (6) a 50 horsepower, 460-volt, 3-phase air bubbler system; (7) a 15-ton overhead traveling crane; (8) a 20-foot-wide stilling basin extending across the length of the spillway; (9) a 12-inch-thick, reinforced concrete spillway apron; (10) an inoperable 4-foot-wide by 150-foot-long concrete fishway with a slope of about 25 percent; (11) sets of angled steel intake trashracks that are 3-feet 2-inches wide by 14-feet-high with 3/8-inch steel bars with 4-inch spacing between the bars; (12) a five-mile-long, 378-acre reservoir with a gross storage capacity of 2,900-acre-feet at the normal operating pool surface elevation of 770.4 NGVD; (13) a three phase, 2.4/34.5 kV transformer; and (14) other appurtenant facilities. The applicant estimates that the total average annual generation would be 7,800 MWh. All generated power is sold to Indiana Michigan Power Company's customers.

m. Location of the Application: A copy of the application is available for inspection and reproduction at the Commission's Public Reference Room, located at 888 First Street, NE, Washington, DC 20426, or by calling (202) 208-1371. This filing may also be viewed on the Web at http://www.ferc.gov using the “RIMS” link'select “Docket #” and follow the instructions (call 202-208-2222 for assistance). A copy is also available for inspection and reproduction at the address in item h above.

n. Procedural schedule: The application will be processed according to the following milestones, some of which may be combined to expedite processing:

Notice of NEPA scoping—March 2002

Notice that the application is ready for environmental analysis—April 2002

Notice of availability of the NEPA document—August 2002

Order issuing the Commission's decision on the application December 2002

o. Protests or Motions to Intervene—Anyone may submit a protest or motion to intervene in accordance with the requirements of Rules and Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

Magalie R. Salas,
Secretary.

[FR Doc. 02-7038 Filed 3-22-02; 8:45 am]

BILLING CODE 6717-01-P